COMMISSION ON CIVIL RIGHTS

Agenda and Notice of Public Meeting of the Virginia Advisory Committee

Notice is hereby given, pursuant to the provisions of the rules and regulations of the U.S. Commission on Civil Rights (Commission), and the Federal Advisory Committee Act (FACA), that a briefing meeting of the Immigration Subcommittee of the Virginia Advisory Committee to the Commission will convene at 9:30 a.m. and adjourn at 12:30 p.m. on December 14, 2007, in the Board Chambers at the James J. McCoart Administration Building located at One County Complex Court in Woodbridge, Virginia.

The purpose of the briefing is to hear from local officials and advocacy groups about the recent immigration resolution in Prince William County. Following the briefing, the entire Virginia State Advisory Committee will conduct a planning meeting to discuss future activities.

Members of the public are entitled to submit written comments; the comments must be received in the Eastern Regional Office by December 31, 2007. The address is 624 Ninth Street, NW., Washington, DC 20425. Persons wishing to e-mail their comments, or to present their comments verbally at the meeting, or who desire additional information should contact Alfreda Greene, Secretary, 202-376-7533, TTY202-376-8116, or by e-mail: agreene@usccr.gov.

Hearing-impaired persons who will attend the meetings and require the services of a sign language interpreter should contact the Regional Office at least ten (10) working days before the scheduled date of the meeting.

Records generated from these meetings may be inspected and reproduced at the Eastern Regional Office, as they become available, both before and after the meeting. Persons interested in the work of this advisory committee are advised to go to the Commission's Web site, www.usccr.gov, or to contact the Eastern Regional Office at the above e-mail or street address.

The meetings will be conducted pursuant to the provisions of the rules and regulations of the Commission and FACA.

Dated in Washington, DC, November 13, 2007.
Ivy L. Davis,
Acting Chief, Regional Programs Coordination Unit.

[FR Doc. E7-22605 Filed 11-19-07; 8:45 am]

BILLING CODE 6335-02-P